ENVIRONMENTAL PROTECTION AGENCY

40 CFR Part 52

[EPA-R04-OAR-2019-0195; FRL-10012-66-Region 4]

Air Plan Approval; Georgia; Revision to I/M Program

AGENCY: Environmental Protection Agency (EPA).

ACTION: Final rule.

SUMMARY: The Environmental Protection Agency (EPA) is approving a State Implementation Plan (SIP) revision submitted by the State of Georgia through a letter dated March 15, 2019, through the Georgia Department of Natural Resources (GA DNR), Environmental Protection Division (GA EPD). The changes remove obsolete references, clarify the State's inspection and maintenance (I/M) requirements, and update terminology, including to reflect advances in technology. EPA evaluated the SIP revision and determined the changes will not impact emissions under the Georgia I/M program. EPA has determined that approval of the SIP revision will not interfere with attainment or maintenance of any national ambient air quality standard (NAAQS) or with any other applicable requirement of the Clean Air Act (CAA or Act). Therefore, EPA is approving the Georgia's March 15, 2019, SIP revision because it is consistent with the applicable provisions of the CAA.

DATES: This rule is effective September 23, 2020.

ADDRESSES: EPA has established a docket for this action under Docket Identification No. EPA-R04-OAR-2019-0195 at http://www.regulations.gov. All documents in the docket are listed on the www.regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Kelly Sheckler, Air Regulatory Management Section, Air Planning and Implementation Branch, Air and Radiation Division, Region 4, U.S. Environmental Protection Agency, 61 Forsyth Street SW, Atlanta, Georgia 30303-8960. The telephone number is (404) 562-9222. Ms. Sheckler can also be reached via electronic mail at sheckler.kelly@epa.gov.

SUPPLEMENTARY INFORMATION:

I. This Action

EPA is approving changes to the Georgia SIP that were provided to EPA under a cover letter dated March 15, 2019.¹ Specifically, GA EPD provided three different changes to Georgia's Rule 391-3-20—Enhanced Inspection and Maintenance (“Georgia I/M Regulation”), which were adopted by the GA DNR Board of Directors and became state-effective on November 22, 2016, March 28, 2018, and February 17, 2019.² The changes are to update the SIP to remove obsolete references, clarify the State's I/M requirements, and update terminology, including to reflect advances in technology. These changes include adding, removing, and revising definitions applicable to the Georgia I/M Regulation.

¹ EPA officially received Georgia's I/M SIP revision request on March 21, 2019.

² Changes adopted by the GA DNR Board on October 26, 2016, became state-effective on November 22, 2016; adopted on February 28, 2018, became state-effective on March 28, 2018; and adopted on January 16, 2019, became state-effective on February 17, 2019.

II. Background

Georgia's March 19, 2019 SIP revision contains changes to a number of rules within the Georgia I/M Regulation to remove obsolete references, clarify the State's I/M regulations, and update terminology: Rule 391-3-20-.01, “Definitions;” Rule 391-3-20-.03, “Covered Vehicles: Exemptions;” Rule 391-3-20-.04, “Emission Inspection Procedures;” Rule 391-3-20-.05, “Emission Standards;” Rule 391-3-20-.06, “On-Road Testing of Exhaust Emissions by Remote Sensing Technology or Other Means;” Rule 391-3-20-.07, “Inspection Equipment System Specification;” 391-3-20-.08, “Quality Control and Equipment Calibration Procedures;” Rule 391-3-20-.09, “Inspection Station Requirements;” Rule 391-3-20-.10, “Certificates of Authorization;” Rule 391-3-20-.11, “Inspector Qualifications and Certification;” Rule 391-3-20-.13, “Certificate of Emission Inspection;” Rule 391-3-20-.15, “Repairs and Retests;” Rule 391-3-20-.17, “Waivers;” and Rule 391-3-20-.18, “Sale of Vehicles.”

In a notice of proposed rulemaking (NPRM) published on May 14, 2020 (85 FR 28919), EPA proposed to approve the above changes into the Georgia SIP. The details of Georgia's submission and the rationale for EPA's action are explained in the NPRM. Comments on the NPRM were due on or before June 15, 2020. EPA did not receive any comments on the NPRM. Therefore, EPA is finalizing approval of those changes in this action.

In this final action, EPA is correcting an error in the NPRM regarding the term “Certification of Emission Inspection.” In the NPRM (Section III.A.2.b.), EPA stated that “[t]he term `Certificate of Emissions Inspection' is defined as a certificate issued to stations that have been inspected and approved by GA EPD.” Georgia Rule 391-391-3-20-.01, “Definitions,” however, defines a “Certificate of Emissions Inspection” as follows:

(f) “Certificate of Emissions Inspection” means an official certificate that exhaust emissions, evaporative emissions, emission control equipment, and on-board diagnostic equipment have been inspected and approved in accordance with the Act and this Chapter. Such certificates will be furnished to official emission inspection stations by EPD to be completed and issued by such stations to the owner or operator of a responsible motor vehicle upon inspection and approval certifying that such responsible motor vehicle has been inspected and complies with the inspection and maintenance required by the Act and this Chapter.

Therefore, the term “Certificate of Emissions Inspection” is defined as a certificate issued to the owner or operator of a motor vehicle that has received an emission inspection.

III. Incorporation by Reference

In this rule, EPA is finalizing regulatory text that includes incorporation by reference. In accordance with requirements of 40 CFR 51.5, EPA is finalizing the incorporation by reference of Georgia Rules 391-3-20-.04, 391-3-20-.05, 391-3-20-.07, 391-3-20-.08, 391-3-20-.10, 391-3-20-.13, 391-3-20-.15, 391-3-20-.18, and 391-3-20-.20, state effective on March 28, 2018, and Georgia Rules 390-3-20-.01, 391-3-20-.03, 391-3-20-.06, 391-3-20-.09, 391-3-20-.11, and 391-3-20-.17, state effective on February 17, 2019, within Chapter 391-3-20, titled “Enhanced Inspection and Maintenance,” to remove obsolete references, clarify the State's I/M requirements, and update terminology, including to reflect advances in technology. EPA has made, and will continue to make, these materials generally available through www.regulations.gov and at the EPA Region 4 Office (please contact the person identified in the For Further Information Contact section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.³

³ See 62 FR 27968 (May 22, 1997).

IV. Final Action

EPA is approving Georgia's March 15, 2019, SIP revision. The changes revise sections of Georgia's Rule 391-3-20—Enhanced Inspection and Maintenance. The changes update the SIP to remove obsolete references, clarify the State's I/M requirements, and update terminology, including to reflect advances in technology. These changes include adding, removing, and revising definitions applicable to the Georgia I/M Regulation. EPA is approving these changes because they are consistent with the CAA and EPA's inspection and maintenance regulations at 40 CFR part 51 subpart S.

V. Statutory and Executive Order Review

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by October 23, 2020. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 23, 2020.
Mary Walker,
Regional Administrator, Region 4.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart (L)—Georgia

2. In § 52.570 amend the table in paragraph (c) by:

a. Revising the entry for “391-3-20”; and

b. Adding entries under “Enhanced Inspection and Maintenance” in numerical order for “391-3-20-.01, Definitions”, “391-3-20-.02, Covered Counties”, “391-3-20-.03, Covered Vehicles; Exemptions”, “391-3-20-.04, Emission Inspection Procedures”, “391-3-20-.05, Emission Standards”, “391-3-20-.06, On-Road Testing of Exhaust Emissions by Remote Sensing Technology or Other Means”, “391-3-20-.07, Inspection Equipment System Specifications”, “391-3-20-.08, Quality Control and Equipment Calibration Procedures”, “391-3-20-.09, Inspection Station Requirements”, “391-3-20-.10, Certificates of Authorization”, “391-3-20-.11, Inspector Qualifications and Certification”, “391-3-20-.12, Schedules for Emission Inspections”, “391-3-20-.13, Certificate of Emission Inspection”, “391-3-20-.15, Repairs and Retests”, “391-3-20-.16, Extensions and Reciprocal Inspections”, “391-3-20-.17, Waivers”, “391-3-20-.18, Sale of Vehicles”, “391-3-20-.19, Management Contractor”, “391-3-20-.20, Referee Program”, “391-3-20-.21, Inspection Fees”, and “391-3-20-.22, Enforcement”, to read as follows:

§ 52.570 Identification of plan.

* * * * *

(c) * * *

EPA Approved Georgia Regulations
State citation | Title/subject | State effective date | EPA approval date | Explanation
* * * * * * *
391-3-20 | Enhanced Inspection and Maintenance
391-3-20-.01 | Definitions | 2/17/2019 | 8/24/2020, [Insert citation of publication] |
391-3-20-.02 | Covered Counties | 1/9/2005 | 5/24/2007, 72 FR 29075 |
391-3-20-.03 | Covered Vehicles; Exemptions | 2/17/2019 | 8/24/2020, [Insert citation of publication] |
391-3-20-.04 | Emission Inspection Procedures | 3/28/2018 | 8/24/2020, [Insert citation of publication] |
391-3-20-.05 | Emission Standards | 3/28/2018 | 8/24/2020, [Insert citation of publication] |
391-3-20-.06 | On-Road Testing of Exhaust Emissions by Remote Sensing Technology or Other Means | 2/17/2019 | 8/24/2020, [Insert citation of publication] |
391-3-20-.07 | Inspection Equipment System Specifications | 3/28/2018 | 8/24/2020, [Insert citation of publication] |
391-3-20-.08 | Quality Control and Equipment Calibration Procedures | 3/28/2018 | 8/24/2020, [Insert citation of publication] |
391-3-20-.09 | Inspection Station Requirements | 2/17/2019 | 8/24/2020, [Insert citation of publication] |
391-3-20-.10 | Certificates of Authorization | 3/28/2018 | 8/24/2020, [Insert citation of publication] |
391-3-20-.11 | Inspector Qualifications and Certification | 2/17/2019 | 8/24/2020, [Insert citation of publication] |
391-3-20-.12 | Schedules for Emission Inspections | 6/19/2014 | 4/10/2017, 82 FR 17128 |
391-3-20-.13 | Certificate of Emission Inspection | 3/28/2018 | 8/24/2020, [Insert citation of publication] |
391-3-20-.15 | Repairs and Retests | 3/28/2018 | 8/24/2020, [Insert citation of publication] |
391-3-20-.16 | Extensions and Reciprocal Inspections | 6/19/2014 | 4/10/2017, 82 FR 17128 |
391-3-20-.17 | Waivers | 2/17/2019 | 8/24/2020, [Insert citation of publication] |
391-3-20-.18 | Sale of Vehicles | 3/28/2018 | 8/24/2020, [Insert citation of publication] |
391-3-20-.19 | Management Contractor | 6/19/2014 | 4/10/2017, 82 FR 17128 |
391-3-20-.20 | Referee Program | 3/28/2018 | 8/24/2020, [Insert citation of publication] |
391-3-20-.21 | Inspection Fees | 6/19/2014 | 4/10/2017, 82 FR 17128 |
391-3-20-.22 | Enforcement | 6/19/2014 | 4/10/2017, 82 FR 17128 |

* * * * *

[FR Doc. 2020-16668 Filed 8-21-20; 8:45 am]

BILLING CODE 6560-50-P